ENVIRONMENTAL PROTECTION AGENCY

[OAR-2003-0081, FRL-7527-2]

Agency Information Collection Activities: Proposed Collection; Comment Request; Emission Reporting Requirements for Ozone SIP Revision Relating to Statewide Budgets for NOX Emissions To Reduce the Regional Transport of Ozone, EPA ICR Number 1857.03, OMB Control Number 2060-0445

AGENCY: Environmental Protection Agency (EPA).

ACTION: Notice.

SUMMARY: In compliance with the Paperwork Reduction Act (44 U.S.C. 3501 et seq.), this document announces that EPA is planning to submit a continuing Information Collection Request (ICR) to the Office of Management and Budget (OMB). This is a request to renew an existing approved collection. This ICR is scheduled to expire on 10/31/2003. Before submitting the ICR to OMB for review and approval, EPA is soliciting comments on specific aspects of the proposed information collection as described below.

DATES: Comments must be submitted on or before September 9, 2003.

ADDRESSES: Submit your comments, referencing docket ID number OAR-2003-0081, to EPA online using EDOCKET (our preferred method), by e-mail to A-and-R-Docket@epa.gov, or by mail to: EPA Docket Center, Environmental Protection Agency, Air Docket, Mail Code 6102T, Room B108, 1200 Pennsylvania Ave., NW., Washington, DC 20460.

FOR FURTHER INFORMATION CONTACT: William L. Johnson, Air Quality Strategies and Standards Division, Ozone Policy Strategies Group, C539-02, Environmental Protection Agency, Research Triangle Park, North Carolina 27711; telephone number: (919) 541-5245; fax number: (919) 541-0824; e-mail address: Johnson.WilliamL@epa.gov.

SUPPLEMENTARY INFORMATION: The EPA has established a public docket for this ICR under Docket ID number OAR-2003-0081, which is available for public viewing at the Air Docket in the EPA Docket Center (EPA/DC), EPA West, Room B102, 1301 Constitution Ave., NW., Washington, DC 20460. The EPA Docket Center Public Reading Room is open from 8:30 a.m. to 4:30 p.m., Monday through Friday, excluding legal holidays. The telephone number for the Reading Room is (202) 566-1744, and the telephone number for the Air Docket is (202) 566-1742. An electronic version of the public docket is available through EPA Dockets (EDOCKET) at http://www.epa.gov/edocket. Use EDOCKET to obtain a copy of the draft collection of information, submit or view public comments, access the index listing of the contents of the public docket, and to access those documents in the public docket that are available electronically. Once in the system, select “search,” then key in the docket ID number identified above.

Any comments related to this ICR should be submitted to EPA within 60 days of this notice. The EPA's policy is that public comments, whether submitted electronically or in paper, will be made available for public viewing in EDOCKET as EPA receives them and without change, unless the comment contains copyrighted material, CBI, or other information whose public disclosure is restricted by statute. When EPA identifies a comment containing copyrighted material, EPA will provide a reference to that material in the version of the comment that is placed in EDOCKET. The entire printed comment, including the coyrighted material, will be available in the public docket. Although identified as an item in the official docket, information claimed as CBI, or whose disclosure is otherwise restricted by statute, is not included in the official public docket, and will not be available for public viewing in EDOCKET. For further information about the electronic docket, see EPA's Federal Register notice describing the electronic docket at 67 FR 38102 (May 31, 2002), or go to http://www.epa.gov/edocket.

Affected entities: Entities potentially affected by this action are States covered by the NOX SIP call and industries in those States which are large emitters of NOX. This includes large electrical generating units or power plants and large boilers as well as possibly cement kilns.

Title: Emission Reporting Requirements for Ozone SIP Revision Relating to Statewide Budgets for NOX Emissions to Reduce the Regional Transport of Ozone.

Abstract: States which are subject to the NOX SIP call are required to collect data on NOX emissions and submit this data to EPA. Data from large NOX sources which States are requiring to be controlled to meet the State NOX budget must be reported annually for the ozone season. States must report NOX emissions from all sources triennially. In order to report this data, States must require large sources of NOX emissions to monitor emissions and report emissions to the State or to EPA. Resources must be expended by sources to install and calibrate emission monitors and to collect and report emissions data. This data is necessary to allow EPA to assess the ability of States to meet their NOX budgets allocated under the NOX SIP call. The data submission is not voluntary. It is required under 40 CFR 51.122. All emissions data received by EPA will be treated as public information. An agency may not conduct or sponsor, and a person is not required to respond to, a collection of information unless it displays a currently valid OMB control number. The OMB control numbers for EPA's regulations are listed in 40 CFR part 9.

The EPA would like to solicit comments to:

(i) Evaluate whether the proposed collection of information is necessary for the proper performance of the functions of the agency, including whether the information will have practical utility;

(ii) Evaluate the accuracy of the agency's estimate of the burden of the proposed collection of information, including the validity of the methodology and assumptions used;

(iii) Enhance the quality, utility, and clarity of the information to be collected; and

(iv) Minimize the burden of the collection of information on those who are to respond, including through the use of appropriate automated electronic, mechanical, or other technological collection techniques or other forms of information technology, e.g., permitting electronic submission of responses.

Burden Statement: The total average annual reporting burden of this information collection is $54,097,149 and 492,192 hours. The annualized capital cost is $16,136,170. The annualized operating and maintenance cost is $12,606,505. These costs are mostly for installing and maintaining continuous emission monitors at industrial facilities including large electrical generating power plants. The average burden hour per response is estimated to be 142 hours. The frequency of response is annually or quarterly for large NOX sources participating in a Federally approved NOX trading program. The number of respondents is estimated to be 2,467 including States and industrial sources. Burden means the total time, effort, or financial resources expended by persons to generate, maintain, retain, or disclose or provide information to or for a Federal agency. This includes the time needed to review instructions; develop, acquire, install, and utilize technology and systems for the purposes of collecting, validating, and verifying information, processing and maintaining information, and disclosing and providing information; adjust the existing ways to comply with any previously applicable instructions and requirements; train personnel to be able to respond to a collection of information; search data sources, complete and review the collection of information; and transmit or otherwise disclose the information.

Dated: June 25, 2003.
Henry C. Thomas, Jr.,
Acting Director, Office of Air Quality Planning and Standards.

[FR Doc. 03-17612 Filed 7-10-03; 8:45 am]

BILLING CODE 6560-50-P